FEDERAL ELECTION COMMISSION

Sunshine Act Meeting

FEDERAL REGISTER CITATION NOTICE OF PREVIOUS ANNOUNCEMENT: 83 FR 61379.

PREVIOUSLY ANNOUNCED TIME AND DATE OF THE MEETING: Tuesday, December 4, 2018 at 10:00 a.m.

CHANGES IN THE MEETING: The meeting will take place on Wednesday, December 5 at 2:00 p.m. and will be continued on Thursday, December 6, 2018 after the open meeting.

This meeting will also discuss:

Information the premature disclosure of which would be likely to have a considerable adverse effect on the implementation of a proposed Commission action.

* * * * *

CONTACT FOR MORE INFORMATION: Judith Ingram, Press Officer, Telephone: (202) 694-1220.

Laura E. Sinram,
Deputy Secretary of the Commission.

[FR Doc. 2018-26296 Filed 11-29-18; 11:15 am]

BILLING CODE 6715-01-P